COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds product(s) to the Procurement List that will be furnished by nonprofit agencies employing persons who are blind or have other severe disabilities.

DATES: Date added to the Procurement List: May 9, 2021.

ADDRESSES: Committee for Purchase From People Who Are Blind or Severely Disabled, 1401 S Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION:

Additions

On 10/16/2020 and 10/30/2020 the Committee for Purchase From People Who Are Blind or Severely Disabled published notice of proposed additions to the Procurement List. This notice is published pursuant to 41 U.S.C. 8503 (a)(2) and 41 CFR 51-2.3.

After consideration of the material presented to it concerning capability of qualified nonprofit agencies to provide the product(s) and impact of the additions on the current or most recent contractors, the Committee has determined that the product(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) to the Government.

2. The action will result in authorizing small entities to furnish the product(s) to the Government.

3. There are no known regulatory alternatives which would accomplish the objectives of the Javits-Wagner-O'Day Act (41 U.S.C. 8501-8506) in connection with the product(s) proposed for addition to the Procurement List.

End of Certification

Accordingly, the following product(s) are added to the Procurement List:

Product(s)

NSN(s)—Product Name(s):

7930-01-671-7469—Dish Soap, Manual, EPA Certified

Designated Source of Supply: Asso. for the Blind and Visually Impaired-Goodwill Industries of Greater Rochester, Inc., Rochester, NY

Mandatory For: Total Government Requirement

Contracting Activity: Federal Acquisition Service, GSA/FSS Greater Southwest Acquisiti

NSN(s)—Product Name(s):

7930-01-621-6646—Detergent, Dishwashing, EPA Certified, BX/4 Bottles

7930-01-618-2179—Rinse Additive, Dishwasher, EPA Certified, 2 Bottles

7930-00-NIB-2190—Cleaner, Degreaser, Multipurpose, EPA Certified

7930-00-NIB-2191—Pre-Soak, Flatware, EPA Certified

7930-00-NIB-2192—De-Limer/De-Scaler, Dishwasher, EPA Certified

7930-00-NIB-2193—Cleaner, Floor, Environmentally Safe

Designated Source of Supply: Asso. for the Blind and Visually Impaired-Goodwill Industries of Greater Rochester, Inc., Rochester, NY

Mandatory For: Total Government Requirement

Contracting Activity: Federal Acquisition Service, GSA/FSS Greater Southwest Acquisiti

Michael R. Jurkowski,
Deputy Director, Business & PL Operations.

[FR Doc. 2021-07340 Filed 4-8-21; 8:45 am]

BILLING CODE 6353-01-P